DEPARTMENT OF ENERGY

Agency Information Collection Extension

AGENCY: Department of Energy.

ACTION: Submission for Office of Management and Budget (OMB) review; comment request.

SUMMARY: The Department of Energy (DOE) has submitted an information collection package to OMB for extension under the provisions of the Paperwork Reduction Act of 1995, 44 U.S.C. 3501 et seq. The information collection package requests a three-year extension of, OMB Control Number 1910-0600, entitled “Industrial Relations.” This information collection package covers information necessary for collection of Human Resource information from major Department contractors for contract management, administration, and cost control.

DATES: Comments regarding this collection must be received on or before September 5, 2008. If you anticipate that you will be submitting comments, but find it difficult to do so within the period of time allowed by this notice, please advise the OMB Desk Officer of your intention to make a submission as soon as possible. The Desk Officer may be telephoned at 202-395-4650.

ADDRESSES: Written comments should be sent to the

DOE Desk Officer, Office of Information and Regulatory Affairs, Office of Management and Budget, New Executive Office Building, Room 10102, 735 17th Street, NW., Washington, DC 20503; and to

Robert M. Myers, US Department of Energy, 1000 Independence Avenue, SW., Washington, DC 20585-1615, 202-287-1584, or by fax at 202-287-1656 or by e-mail at robert.myers@hq.doe.gov.

FOR FURTHER INFORMATION CONTACT: Requests for additional information or copies of the information collection instrument and instructions should be directed to Robert Myers at the address listed above.

SUPPLEMENTARY INFORMATION: This information collection request contains:

(1) OMB No. 1910-0600;

(2) Information Collection Request Title: Industrial Relations;

(3) Purpose: This information is required for management oversight for the Department of Energy's Facilities Management Contractors and to ensure that the programmatic and administrative management requirements of the contract are managed efficiently and effectively;

(4) Estimated Number of Respondents: 316;

(5) Estimated Total Burden Hours: 8,140;

(6) Number of Collections: The information collection request contains 8 information and/or recordkeeping requirements.

Statutory Authority: The basic authority for collection of this data is the statute establishing the Department of Energy (“Department of Energy Organization Act,” Public Law 95-91, of Aug 4, 1977, 42 U.S.C. 7101 et seq. ). It vests the Secretary of Energy with the executive direction and management function, authority, and responsibilities for the Department, including contract management. The provisions of 42 U.S.C. 7254 state that “The Secretary is authorized to prescribe such procedural and administrative rules and regulations as he may deem necessary or appropriate to administer and manage the functions now or hereafter vested in him.”

Issued in Washington, DC on July 30, 2008.
Edward R. Simpson,
Director, Office of Procurement and Assistance Management.

[FR Doc. E8-18034 Filed 8-5-08; 8:45 am]

BILLING CODE 6450-01-P